DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on February 23-24, 2004, at the Department of Veterans Affairs, 811 Vermont Avenue, NW., Room 819, Washington, DC. The meeting on February 23 will convene at 8:30 a.m. and adjourn at 5 p.m. The meeting on February 24 will convene at 8:30 a.m. and adjourn at 4 p.m. Both meetings will be open to the public.

The purpose of the Committee is to provide advice and make recommendations to the Secretary of Veterans Affairs on proposed research studies, research plans and research strategies relating to the health consequences of military service in the Southwest Asia theater of operations during the Persian Gulf War.

On February 23, the Committee will hear a series of scientific presentations on infectious diseases in Gulf War veterans. The Committee will also hear presentations on immunological research and findings with respect to Gulf War veterans. On February 24, the Committee will hear presentations on research concerning the biological effects and health concerns of depleted uranium. The Committee will also receive an update on VA-sponsored Gulf War illness research. Time will be available for public comment on both days.

Members of the public may submit written statements for the Committee's review to Ms. Laura O'Shea, Designated Federal Officer, Department of Veterans Affairs (008A1), 810 Vermont Avenue, NW., Washington, DC 20420. Any member of the public seeking additional information should contact Ms. Laura O'Shea at (202) 273-5031.

Dated: January 27, 2004.
By Direction of the Secretary.
E. Philip Riggin,
Committee Management Officer.

[FR Doc. 04-2108 Filed 2-2-04; 8:45 am]

BILLING CODE 8320-01-M